DEPARTMENT OF COMMERCE

National Oceanic and Atmospheric Administration

[Docket No. 010111011-1011-01]

RIN 0648-AO99

Announcement of Intent To Initiate the Process To Designate the Northwestern Hawaiian Islands Coral Reef Ecosystem Reserve as a National Marine Sanctuary; Intent To Prepare a Draft Environmental Impact Statement and Management Plan

AGENCY: Marine Sanctuaries Division (MSD), National Ocean Service (NOS), National Oceanic and Atmospheric Administration, Department of Commerce (DOC).

ACTION: Notice

SUMMARY: On December 4, 2000, President William Clinton signed Executive Order 13178 establishing the Northwestern Hawaiian Islands Coral Reef Ecosystem Reserve, pursuant to the National Marine Sanctuaries Amendments Act of 2000. The Reserve extends approximately 1200 nautical miles long and 100 nautical miles wide. Pursuant to this Act and the Executive Order, NOAA, on behalf of the Secretary is initiating the process to designate the Reserve as a national marine sanctuary and will proceed with the subsequent steps of the designation process. In designating the sanctuary, the Executive Order directs NOAA to supplement or compliment the existing Reserve.

NOAA will prepare an environmental impact statement and management plan which will examine the management, boundary and regulatory alternatives associated with sanctuary designation. NOAA will hold scoping meetings to solicit information and comments on the range and significance of issues related to sanctuary designation and management.

FOR FURTHER INFORMATION CONTACT: Helen Golde, (301) 713-3125, ext. 152 or helen.golde@noaa.gov.

SUPPLEMENTARY INFORMATION: The National Marine Sanctuaries Act (NMSA), 16 U.S.C. 1431 et seq., authorizes the Secretary of Commerce (Secretary) to designate discrete areas of the marine environment as national marine sanctuaries to protect their special conservation, recreational, ecological, historical, cultural, archaeological, scientific, educational, or esthetic qualities. The NMSA is administered by the National Oceanic and Atmospheric Administration (NOAA) through the Marine Sanctuaries Division (MSD).

On May 26, 2000, President Clinton directed the Secretaries of Commerce and the Interior, working cooperatively with the State of Hawaii and consulting with the Western Pacific Fishery Management Council, to develop recommendations for a new, coordinated management regime to increase protection of the coral reef ecosystem of the Northwestern Hawaiian Islands and provide for sustainable use of the area. Upon consideration of their recommendations and comments received during the public visioning process on this intiative, President Clinton issued Executive Order 13178 on December 4, 2000, establishing the Northwestern Hawaiian Islands Coral Reef Ecosystem Reserve (Reserve), pursuant to the National Marine Sanctuaries Amendments Act of 2000 (Act), Public Law 106-513.

As described in Executive Order 13178, the approximately 1,200 mile stretch of coral islands, seamounts, banks, and shoals of the Northwestern Hawaiian Islands are some of the healthiest and most extensive coral reefs in the United States. In their own right, the spectacular coral reefs and lands provide an amazing geological record of volcanic and erosive powers that have shaped this area. This vast area supports a dynamic reef ecosystem that supports more that 7,000 marine species, of which approximately half are unique to the Hawaiian Island chain. This incredibly diverse ecosystem is home to many species of coral, fish, birds, marine mammals, and other flora and fauna including the endangered Hawaiian monk seal, the threatened green sea turtle, and others. In addition, this area has great cultural significance to Native Hawaiian as well as linkages to early Polynesian culture—making it additionally worthy of protection and understanding. This is truly a unique and special place, a coral reef ecosystem like no place on earth, and a source of pride, inspiration, and satisfaction for all Americans, especially the people of Hawaii.

The purpose of the Reserve is to ensure the comprehensive, strong, and lasting protection of the coral reef ecosystem and related marine resource and species of the Northwestern Hawaiian Islands. The Reserve extends approximately 1200 nautical miles long and 100 nautical miles wide. The Reserve is adjacent to and seaward of the seaward boundaries of the State of Hawaii and the Midway Atoll National Wildlife Refuge, and overlays the Hawaiian Islands National Wildlife Refuge to the extent that it extends beyond the seaward boundaries of the State of Hawaii.

As required by the Act and Executive Order 13178, NOAA is initiating the process to designate the Reserve as a national marine sanctuary and will proceed with the steps of the designation process pursuant to the applicable provisions of sections 303 and 304 of the NMSA (16 U.S.C. 1433 and 1434). In designating the sanctuary, the Executive Order directs NOAA to supplement or compliment the existing Reserve. As part of the process, NOAA shall, in consultation with the Governor of the State of Hawaii, determine whether State submerged lands and waters should be included as part of the sanctuary. In designating and managing the sanctuary, the Secretary shall consider the advice and recommendations of the Reserve Council established pursuant to paragraph (f) of section 5 of E.O. 13178. The Reserve Council is expected to be established in January, 2001.

NOAA will prepare an environmental impact statement, pursuant to the National Environmental Policy Act, and management plan which will examine the management, boundary and regulatory alternatives associated with sanctuary designation. NOAA will hold scoping meetings, tentatively planned for spring 2001, to solicit information and comments on the range and significance of issues related to sanctuary designation and management. Individuals and representatives of interested organizations and government agencies are invited and encouraged to attend. Opportunities for comment will exist throughout this process and will be announced in the Federal Register, the local media, and other appropriate channels.

Authority: 16 U.S.C. Section 1431 et seq., Pub. L. 106-513.

(Federal Domestic Assistance Catalog Number 11.429 Marine Sanctuary Program)
Dated: January 11, 2001.
John Oliver,
Chief Financial Officer/Chief Administrative Officer.

[FR Doc. 01-1475 Filed 1-18-01; 8:45 am]

BILLING CODE 3510-08-U